DEPARTMENT OF TRANSPORTATION

Federal Aviation Administration

14 CFR Part 39

[Docket No. FAA-2007-28369; Directorate Identifier 2007-NM-076-AD; Amendment 39-15088; AD 2007-12-10]

RIN 2120-AA64

Airworthiness Directives; Airbus Model A330 and A340 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Two A330 operators have reported uncontained APU (auxiliary power unit) generator failures on ground. In both events, a loud noise was heard, followed by an APU automatic shutdown.

Preliminary investigations confirmed an uncontained APU Generator failure with subsequent aircraft structural damages to the APU compartment and, in one case, to the stabiliser compartment.

Loose APU generator parts can lead to damage to the APU fire wall which might reduce its fire extinguishing capability, possibly leading to a temporary uncontrolled fire which constitutes an unsafe condition. * * *

This AD requires actions that are intended to address the unsafe condition described in the MCAI.

DATES: This AD becomes effective June 26, 2007.

The Director of the Federal Register approved the incorporation by reference of certain publications, listed in the AD, as of June 26, 2007.

We must receive comments on this AD by July 11, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this AD, the regulatory evaluation, any comments received, and other information. The street address for the Docket Office (telephone (800) 647-5227) is in the ADDRESSES section. Comments will be available in the AD docket shortly after receipt.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the Technical Agent for the Member States of the European Community, has issued EASA Airworthiness Directive 2007-0080-R1, dated April 13, 2007 (referred to after this as “the MCAI”), to correct an unsafe condition for the specified products. The MCAI states:

Two A330 operators have reported uncontained APU (auxiliary power unit) generator failures on ground. In both events, a loud noise was heard, followed by an APU automatic shutdown.

Preliminary investigations confirmed an uncontained APU Generator failure with subsequent aircraft structural damages to the APU compartment and, in one case, to the stabiliser compartment.

Loose APU generator parts can lead to damage to the APU fire wall which might reduce its fire extinguishing capability, possibly leading to a temporary uncontrolled fire which constitutes an unsafe condition. Further detailed investigations are ongoing to determine the root causes of both events.

The MCAI requires a one-time inspection of the inlet screen for the scavenge-oil pump for signs of debris coming from the APU generator in order to get a complete fleet status. For airplanes on which any metallic debris is found during the inspection, the MCAI requires corrective actions in accordance with the relevant service information. Those corrective actions include shipping the debris to Airbus, and specify dispatching the airplane using one of the following four options:

• Replacing the APU generator and checking the APU oil system for metallic debris from the APU generator.

• Installing the APU generator substitution kit and checking the APU oil system for debris from the APU generator.

• Deactivating the APU generator and checking the APU oil system for debris from the APU generator.

• Keeping the APU inoperative.

The corrective actions also specify replacing the inlet screen if found damaged during the oil system check. For certain airplanes, the MCAI requires performing a check of the differential pressure indicator button on the lube filter and the generator scavenge filter.

Relevant Service Information

Airbus has issued All Operators Telexes (AOTs) A330-24A3042, A340-24A4056, and A340-24A5020, all Revision 02, all dated April 12, 2007. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because an uncontained APU failure can lead to damage to the APU fire wall, which might reduce its fire extinguishing capability, possibly leading to an uncontrolled fire. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-28369; Directorate Identifier 2007-NM-076-AD” at the beginning of your comments. We specifically invite comments on the overall regulatory, economic, environmental, and energy aspects of this AD. We will consider all comments received by the closing date and may amend this AD because of those comments.

We will post all comments we receive, without change, to http://dms.dot.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-12-10 Airbus: Amendment 39-15088. Docket No. FAA-2007-28369; Directorate Identifier 2007-NM-076-AD.

Effective Date

(a) This airworthiness directive (AD) becomes effective June 26, 2007.

Affected ADs

(b) None.

Applicability

(c) This AD applies to Airbus Model A330 and A340 airplanes; certificated in any category; all certified models, all serial numbers; for which the date of issuance of the original French standard airworthiness certificate or the date of issuance of the original export certificate of airworthiness is before March 1, 2007.

Subject

(d) Electrical power.

Reason

(e) The mandatory continued airworthiness information (MCAI) states:

Two A330 operators have reported uncontained APU (auxiliary power unit) generator failures on ground. In both events, a loud noise was heard, followed by an APU automatic shutdown.

Preliminary investigations confirmed an uncontained APU Generator failure with subsequent aircraft structural damages to the APU compartment and, in one case, to the stabiliser compartment.

Loose APU generator parts can lead to damage to the APU fire wall which might reduce its fire extinguishing capability, possibly leading to a temporary uncontrolled fire which constitutes an unsafe condition. Further detailed investigations are ongoing to determine the root causes of both events.

The MCAI requires a one-time inspection of the inlet screen for the scavenge-oil pump for signs of debris coming from the APU generator in order to get a complete fleet status. For airplanes on which any metallic debris is found during the inspection, the MCAI requires corrective actions in accordance with the relevant service information. Those corrective actions include shipping the debris to Airbus, and specify dispatching the airplane using one of the following four options: Replacing the APU generator and checking the APU oil system for metallic debris from the APU generator; installing the APU generator substitution kit and checking the APU oil system for debris from the APU generator; deactivating the APU generator and checking the APU oil system for debris from the APU generator; or keeping the APU inoperative. The corrective actions also specify replacing the inlet screen if found damaged during the oil system check. For certain airplanes, the MCAI requires performing a check of the differential pressure indicator button on the lube filter and the generator scavenge filter.

Actions and Compliance

(f) Unless already done, do the following actions.

(1) Within 63 days after the effective date of this AD, in accordance with the instructions of Airbus All Operators Telex (AOT) A330-24A3042, A340-24A4056, or A340-24A5020, all Revision 02, all dated April 12, 2007; as applicable: Inspect the inlet screen (last chance filter) for the generator scavenge-oil pump for signs of debris and, as applicable, apply all associated corrective actions before further flight.

(2) For Model A330 aircraft operating under MMEL (master minimum equipment list) Item 24-22-01 ‘AC Main Generation' or MMEL Item 36-11-01 ‘Bleed Air Supply System Failure': As of the effective date of this AD, before each flight, perform a check of the differential pressure indicator button on the lube filter and the generator scavenge filter in accordance with the instructions of Airbus AOT A330-24A3042, Revision 02, dated April 12, 2007.

Note 1: The repetitive checks before each flight specified in paragraph (f)(2) of this AD are not required for airplanes operated under MMEL Item 36-11-01, provided the APU generator has been removed or deactivated in accordance with the instructions of Airbus AOT A330-24A3042, Revision 02, dated April 12, 2007.

(3) Actions done before the effective date of this AD in accordance with the applicable Airbus service information in Table 1 of this AD are acceptable for compliance with the corresponding provisions of paragraph (f) of this AD.

Table 1.—Acceptable Earlier Revisions of Service Information
Airbus all operators telex | Revision level | Date
A330-24A3042 | Original | March 22, 2007.
A330-24A3042 | 01 | March 29, 2007.
A340-24A4056 | Original | March 22, 2007.
A340-24A4056 | 01 | March 29, 2007.
A340-24A5020 | Original | March 22, 2007.
A340-24A5020 | 01 | March 29, 2007.

FAA AD Differences

Note 2: This AD differs from the MCAI and/or service information as follows: Although the MCAI or service information requires checking the differential pressure indicator button on the lube and the generator scavenge filter until May 31, 2007, this AD does not provide a termination date for the checks. This difference has been coordinated with the European Aviation Safety Agency (EASA).

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tim Backman, Aerospace Engineer, 1601 Lind Avenue, SW., Renton, Washington 98057-3356; telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0080-R1, dated April 13, 2007; and Airbus AOT A330-24A3042, A340-24A4056, or A340-24A5020, all Revision 02, all dated April 12, 2007; for related information.

Material Incorporated by Reference

(i) You must use the applicable Airbus service information specified in Table 2 of this AD to do the actions required by this AD, unless the AD specifies otherwise. (Only the first page of these documents contains the document number, revision level, and date; no other pages of these documents contain this information.)

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 2.—Material Incorporated by Reference
Airbus all operators telex | Revision level | Date
A330-24A3042 | 02 | April 12, 2007.
A340-24A4056 | 02 | April 12, 2007.
A340-24A5020 | 02 | April 12, 2007.

Issued in Renton, Washington, on May 30, 2007.
Ali Bahrami,
Manager, Transport Airplane Directorate, Aircraft Certification Service.

[FR Doc. E7-10993 Filed 6-8-07; 8:45 am]

BILLING CODE 4910-13-P